DEPARTMENT OF HEALTH AND HUMAN SERVICES

Administration for Children and Families

[ACF-ADD-07-11-2003]

Developmental Disabilities: Notice of Availability of Financial Assistance and Request for Applications To Fund Training and Technical Assistance To Improve Voting Access for Individuals With Disabilities

AGENCY: Administration on Developmental Disabilities (ADD), ACF, DHHS.

SUMMARY: The purpose of this notice is to correct errors that were printed in notice 68 FR 46189 on August 5, 2003. The notice contained an incorrect page limit for application submissions and incorrectly lettered requirements within the Instructions for the Development and Submission of Application section. The purpose of this program is to fund training and technical assistance grants that establish and improve voting access for individuals with the full range of disabilities.

FOR FURTHER INFORMATION CONTACT: Administration for Children and Families, Carla R. Brown, Management Analyst, 370 L'Enfant Promenade, SW., Washington, DC 20447, (202) 690-8332, crbrown@acf.hhs.gov; or Lois Hodge, Grants Officer, 370 L'Enfant Promenade SW., Washington, DC 20447, (202) 401-2344, lhodge@acf.hhs.gov. Copies of this program announcement and many of the required forms may be obtained electronically at the ADD World Wide Web page: http://www.acf.dhhs.gov/programs/add/.

Correction: In the Federal Register on August 5, 2003, in FR DOC 68-46197, in the third full paragraph please change the 25-page limit to a 50-page limit so that the first sentence of the paragraph reads, “The length of the application, including the application forms and all attachments, should not exceed 50 pages.” Also within this paragraph please change the fourth sentence to read, “These materials, if submitted, will not be included in the review process if they exceed the 50-page limit.”

Also in the Federal Register on August 5, 2003 in FR DOC 68-46198, please change the lettering for “E. Checklist for a Complete Application, F. Application Package, and G. Paperwork Reduction Act of 1995” to “C. Checklist for a Complete Application, D. Application Package, and E. Paperwork Reduction Act of 1995.” The doc had incorrectly lettered these sections.

Dated: August 12, 2003.
Patricia Morrissey,
Commissioner, Administration on Developmental Disabilities.

[FR Doc. 03-20885 Filed 8-14-03; 8:45 am]

BILLING CODE 4184-01-P